DEPARTMENT OF COMMERCE

National Oceanic and Atmospheric Administration

50 CFR Part 300

[I.D. 102600E]

Fraser River Sockeye and Pink Salmon Fisheries; Inseason Orders

AGENCY: National Marine Fisheries Service (NMFS), National Oceanic and Atmospheric Administration (NOAA), Commerce.

ACTION: Inseason orders.

SUMMARY: NMFS publishes the Fraser River salmon inseason orders regulating salmon fisheries in U.S. waters. The orders were issued by the Fraser River Panel (Panel) of the Pacific Salmon Commission (Commission) and subsequently approved and issued by NMFS during the 2000 sockeye and pink salmon fisheries within the U.S. Fraser River Panel Area. These orders established fishing times, areas, and types of gear for U.S. treaty Indian and all-citizen fisheries during the period the Commission exercised jurisdiction over these fisheries. Due to the frequency with which inseason orders are issued, publication of individual orders is impracticable. The 2000 orders are therefore being published in this document to avoid fragmentation.

DATES: Each of the following inseason actions was effective upon the dates and times as specified at 50 CFR 300.97(b)(1). Comments will be accepted through December 20, 2000.

ADDRESSES: Comments may be mailed to Donna Darm, Acting Regional Administrator, Northwest Region, NMFS, 7600 Sand Point Way N.E., BIN C15700-Bldg. 1, Seattle, WA 98115-0070. Information relevant to this document is available for public review during business hours at the office of the Regional Administrator, Northwest Region, NMFS.

FOR FURTHER INFORMATION CONTACT: William L. Robinson, 206-526-6140.

SUPPLEMENTARY INFORMATION: The treaty between the Government of the United States of America and the Government of Canada Concerning Pacific Salmon was signed at Ottawa on January 28, 1985, and subsequently was given effect in the United States by the Pacific Salmon Treaty Act (Act) at 16 U.S.C. 3631-3644.

Under authority of the Act, Federal regulations at 50 CFR part 300 subpart F provide a framework for implementation of certain regulations of the Commission and inseason orders of the Commission's Panel for U.S. sockeye and pink salmon fisheries in the Fraser River Panel Area.

The regulations close the Fraser River Panel Area (U.S.) to U.S. sockeye and pink salmon fishing unless opened by Panel orders or by inseason regulations published by NMFS that give effect to Panel orders. During the fishing season, NMFS may issue regulations that establish fishing times and areas consistent with the Commission agreements and inseason orders of the Panel. Such orders must be consistent with domestic legal obligations. The Regional Administrator, Northwest Region, NMFS, issues the inseason orders. Official notification of these inseason actions of NMFS is provided by two telephone hotline numbers described at 50 CFR 300.97(b)(1). Inseason orders must be published in the Federal Register as soon as practicable after they are issued. Due to the frequency with which inseason orders are issued, publication of individual orders is impractical. Therefore, the 2000 orders are therefore being published in this document to avoid fragmentation.

The following inseason orders were adopted by the Panel and issued for U.S. fisheries by NMFS during the 2000 fishing season. The times listed are local times, and the areas designated are Puget Sound Management and Catch Reporting Areas as defined in the Washington State Administrative Code at Chapter 220-22.

Order No. 2000-1: Issued 5 p.m., July 21, 2000

Treaty Indian Fishery

Areas 4B, 5 and 6C: Open for drift gillnets from 6 p.m. July 21, 2000, to 12 noon July 26, 2000.

Order No. 2000-2: Issued 1 p.m. July 25, 2000

Treaty Indian Fishery

Areas 4B, 5, and 6C: Open for drift gillnets from 12 noon July 26, 2000, to 12 noon July 29, 2000.

Areas 6,7 and 7A: Open for net fishing from 4 a.m. to 8 p.m. on July 26, 2000.

All Citizen Fishery

Areas 7 and 7A: Purse seine fishery open from 6 a.m. to 3 p.m. on July 27, 2000. Drift gillnet fishery open from 3 p.m. to 11:59 p.m. on July 27, 2000. Reef net fishery open from 5 a.m. to 9 p.m. on July 29, 2000.

Order No. 2000-3: Issued 4 p.m., July 25, 2000, and supersedes all previous inseason orders

Treaty Indian Fishery

Areas 4B, 5, and 6C: Drift gillnet open from 12 noon July 26, 2000, to 12 noon July 29, 2000.

Areas 6, 7 and 7A: Open for net fishing from 4 a.m. July 26, 2000, to 8 a.m. July 27, 2000.

All Citizen Fishery

Areas 7 and 7A: Drift gillnet fishery open 8 a.m. to 11:59 p.m. July 27, 2000. Purse seine fishery open 5 a.m. to 9 p.m. July 28, 2000. Reef net fishery open from 5 a.m. to 9 p.m. on July 29, 2000, and July 30, 2000.

Order No. 2000-4: Issued 4 p.m. August 2, 2000, and supersedes all previous inseason orders

All Citizen Fishery

Areas 7 and 7A: Purse seine fishery open from 5 a.m. to 9 p.m. August 3, 2000, and from 5 a.m. to 9 p.m. August 4, 2000. Drift gillnet fishery open from 7:15 a.m. to 11:59 p.m. August 3, 2000, and from 7:15 a.m. to 11:59 p.m. August 4, 2000.

Order No. 2000-5: Issued at 4:00 p.m., August 5, 2000

Treaty Indian Fishery

Areas 4B, 5 and 6C: Open for drift gillnets from 6 p.m. August 5 to 6:00 p.m. August 7, 2000.

Areas 6, 7 and 7A: Open for net fishing from 12:00 noon August 6, 2000, to 6:00 p.m. August 7, 2000.

Order No. 2000-6: Issued at 4:00 p.m. August 8, 2000

All Citizen Fishery

Areas 7 and 7A: Reef net fishery open from 6:00 a.m. to 6:00 p.m. August 9, 2000. Purse seine fishery open from 6:00 a.m. to 6:00 p.m. August 10, 2000. Drift gillnet fishery open from 8:00 a.m. to 8:00 p.m. on August 10, 2000.

Order No. 2000-7: Issued at 4:00 p.m. August 15, 2000

All Citizen Fishery

Areas 7 and 7A south and east of a line from Iwersen’s Dock on Point Roberts to Georgina Point Light at the entrance to Active Pass in British Columbia: Purse seine fishery open from 6:00 a.m. to 6:00 p.m. on August 16, 2000. Drift gillnet fishery open from 8:00 a.m. to 8:00 p.m. August 16, 2000.

Order No. 8-2000: Issued at 4:00 p.m. August 22, 2000

United States Fraser River Panel Area Waters

Areas 4B, 5 and 6C, relinquish regulatory control effective August 27, 2000.

Areas 6 and 7 and Area 7A south and east of a line from Iwerson’s Dock on Point Roberts to Georgina Point Light at the entrance to Active Pass in British Columbia, relinquish regulatory control effective August 27, 2000.

Classification

Because these fisheries have been closed, NMFS has determined that good cause exists for this notification to be issued without affording a prior opportunity for public comment because such notification would be unnecessary, impracticable, and contrary to the public interest.

This action is authorized by 50 CFR 300.97, and is exempt from review under Executive Order 12866.

Authority: 16 U.S.C. 3636(b).

Dated: November 28, 2000.
Bruce C. Morehead,
Acting Director, Office of Sustainable Fisheries, National Marine Fisheries Service.

[FR Doc. 00-30818 Filed 12-4-00; 8:45 am]

BILLING CODE: 3510-22-S